FEDERAL FINANCIAL INSTITUTIONS EXAMINATION COUNCIL

[Docket No. AS20-13]

Proposed Information Collection Request; Standardized Instructions and Format To Be Used for Interim and Final Progress Reporting

AGENCY: Appraisal Subcommittee of the Federal Financial Institutions Examination Council.

ACTION: Request for public comment.

SUMMARY: The Appraisal Subcommittee (ASC), as part of continuing efforts to reduce paperwork and respondent burden, invites the general public, and State and Federal agencies to take this opportunity to comment on a new proposed information collection. Under the Paperwork Reduction Act of 1995, an agency may not conduct or sponsor, and a respondent is not required to respond to, an information collection unless it displays a currently valid control number issued by the Office of Management and Budget (OMB). The ASC is soliciting comment concerning a proposed collection method entitled “ASC Progress Report Standardized Instructions and Format for Interim and Final Progress Reporting.” The ASC proposes to collect program progress data from ASC grantees and use this data to ensure grantees are proceeding in a satisfactory manner in meeting the approved goals and purpose of the project. The requirement for grantees to report on performance is OMB grants policy. Specific citations are contained in CFR part 200—Uniform Administrative Requirements, Cost Principles, And Audit Requirements For Federal Awards.

DATES: Comments must be received on or before January 19, 2021 to be assured of consideration.

ADDRESSES: To view the proposed ASC-PR format, see https://www.asc.gov/Documents/GrantsFundingCorrespondence/PR-FFR%20Reporting%20Instructions%20and%20Form.pdf. Commenters are encouraged to submit comments by the Federal eRulemaking Portal or email, if possible. You may submit comments by any of the following methods:

• Federal eRulemaking Portal: https://www.regulations.gov. Follow the instructions for submitting comments. Click on the “Help” tab on the Regulations.gov home page to get information on using Regulations.gov, including instructions for submitting public comments.

• E-Mail: webmaster@asc.gov. Please include the Docket Number AS20-13 in the subject line.

• Fax: (202) 289-4101. Please include the Docket Number AS20-13 in the fax cover sheet.

• Mail or Hand Delivery/Courier: Address to Appraisal Subcommittee, Attn: Lori Schuster, Management and Program Analyst, 1325 G Street NW, Suite 500, Washington, DC 20005.

In general, the ASC will enter all comments received on the Federal eRulemaking (Regulations.gov) website without change, including any business or personal information that you provide, such as name and address information, email addresses, or phone numbers. Comments received, including attachments and other supporting materials, are part of the public record and subject to public disclosure. Do not enclose any information in your comment or supporting materials that you consider confidential or inappropriate for public disclosure.

The ASC will summarize and/or include your comments in the request for OMB's clearance of this information collection.

You may review comments and other related materials that pertain to this rulemaking action by any of the following methods:

• Viewing Comments Electronically: Go to https://www.regulations.gov. Click on the “Help” tab on the Regulations.gov home page to get information on using Regulations.gov, including instructions for viewing public comments, viewing other supporting and related materials, and viewing the docket after the close of the comment period.

• Viewing Comments Personally: You may personally inspect comments at the ASC office, 1325 G Street NW, Suite 500, Washington, DC 20005. To make an appointment, please call Lori Schuster at (202) 595-7578.

• Once the 60-day comment period is closed, the ASC will post on its What's New page, a link to the comments uploaded to https://www.regulations.gov.

FOR FURTHER INFORMATION CONTACT: Maria Brown, Regulatory Affairs Specialist, at (202) 792-1197 or Maria@asc.gov, Appraisal Subcommittee, 1325 G Street NW, Suite 500, Washington, DC 20005.

SUPPLEMENTARY INFORMATION: The ASC has established new grant-making programs and is responsible for monitoring its grantees on the use of federal funds. The ASC developed this progress report for both interim and final progress reports for grants issued under ASC authority. The progress report will be submitted to the ASC semi-annually as an attachment to the Standard Form 425, Federal Financial Report. A draft version of the instructions and format for the reports is posted on the ASC website at https://www.asc.gov/Documents/GrantsFundingCorrespondence/PR-FFR%20Reporting%20Instructions%20and%20Form.pdf. The report will benefit award recipients by making it easier for them to administer federal grant and cooperative agreement programs through standardization of the types of information required in progress reports, thereby reducing their administrative effort and costs.

After obtaining and considering public comment, the ASC will prepare the format for final clearance. Comments are invited on: (a) Ways to enhance the quality, utility, and clarity of the information collected from respondents, including through the use of automated collection techniques or other forms of information technology; and (b) ways to minimize the burden of the collection of information on respondents, including through the use of automated collection techniques or other forms of information technology.

Burden Estimates

Type of Review: Regular.

Affected Public: ASC grantees.

Estimated Number of Respondents: 55.

Estimated burden per Response: 1 hour.

Frequency of Response: Twice per year (semi-annual and annual report).

Estimated Total Annual Burden: 110 hours.

* * * * *

By the Appraisal Subcommittee.
James R. Park,
Executive Director.

[FR Doc. 2020-25671 Filed 11-19-20; 8:45 am]

BILLING CODE 6700-01-P